ENVIRONMENTAL PROTECTION AGENCY

[OPPT-2002-0066; FRL-7293-5]

Endocrine Disruptor Screening Program, Proposed Chemical Selection Approach for Initial Round of Screening; Extension of Comment Period

AGENCY: Environmental Protection Agency (EPA).

ACTION: Notice; extension of comment period.

SUMMARY: In a Federal Register Notice that published on December 30, 2002, EPA sets forth for public comment the approach EPA plans to use for selecting the first group of chemicals to be screened in the Agency's Endocrine Disruptor Screening Program (EDSP). EPA requested that comments be submitted on or before March 1, 2003. In response to several requests to extend the deadline for submitting comments, EPA is hereby extending the comment period to April 1, 2003.

DATES: Comments, identified by docket ID number OPPT-2002-0066, must be received on or before April 1, 2003.

ADDRESSES: Comments may be submitted electronically, by mail, or through hand delivery/courier. Follow the detailed instructions as provided in Unit I.C. of the December 30, 2002 Federal Register document.

FOR FURTHER INFORMATION CONTACT: For general information contact: Barbara Cunningham, Acting Director, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Greg Schweer, Exposure Assessment Coordination and Policy Division (7203M), Office of Science Coordination and Policy, Environmental Protection Agency, 1200 Pennsylvania Ave., NW., Washington, DC 20460-0001; telephone number: (202) 564-8469; e-mail address: schweer.greg@epa.gov.

SUPPLEMENTARY INFORMATION:

I. General Information

A. Does this Action Apply to Me?

This action is directed to the public in general, and may be of particular interest to those persons who are or may be required to conduct testing of chemical substances under the Toxic Substances Control Act (TSCA), the Federal Food, Drug and Cosmetic Act (FFDCA), the Safe Drinking Water Act (SDWA), or the Federal Insecticide, Fungicide, and Rodenticide Act (FIFRA). Since other entities may also be interested, the Agency has not attempted to describe all the specific entities that may be affected by this action. If you have any questions regarding the applicability of this action to a particular entity, consult the technical person listed under FOR FURTHER INFORMATION CONTACT.

B. How Can I Get Copies of This Document and Other Related Information?

1. Docket. EPA has established an official public docket for this action under docket identification (ID) number OPPT-2002-0066. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

C. How and to Whom Do I Submit Comments?

To submit comments or access the official public docket, please follow the detailed instructions as provided in Unit I.C. of the SUPPLEMENTARY INFORMATION of the December 30, 2002 Federal Register document. If you have questions, consult the person listed under FOR FURTHER INFORMATION CONTACT.

II. What Action is EPA taking?

This document extends the public comment period established in the Federal Register issued on December 30, 2002 (67 FR 79611). In that document, EPA sought public comment on the approach EPA plans to use for selecting the first group of chemicals to be screened in the Agency's Endocrine Disruptor Screening Program (EDSP). EPA is hereby extending the comment period, which was set to end on March 1, 2003, to April 1, 2003.

List of Subjects

Environmental protection, Chemicals, Endocrine disruptors, Pesticides and pests.

Dated: February 10, 2003.
Susan B. Hazen,
Acting Assistant Administrator for Prevention, Pesticides and Toxic Substances.

[FR Doc. 03-4385 Filed 2-25-03; 8:45 am]

BILLING CODE 6560-50-S